FEDERAL COMMUNICATIONS COMMISSION

47 CFR Part 25

[IB Docket 02-54; FCC 04-130]

Mitigation of Orbital Debris

AGENCY: Federal Communications Commission.

ACTION: Final rule.

SUMMARY: Pursuant to the Paperwork Reduction Act of 1995, Public Law 104-13, the Federal Communications Commission received Office of Management and Budget (OMB) approval for the collection of orbital debris mitigation plans under 47 CFR 25.114(d)(14) of the Commission's rules. Mitigation of Orbital Debris, IB Docket No. 02-54, OMB Control Number 3060-1013. By this document, we announce the revision or removal of redundant existing rules requiring the submission of orbital debris plans on a service-specific basis that are contained in 47 CFR 25.143(b)(1), 25.145(c)(3), 25.146(i)(4), and 25.217(d).

DATES: Effective October 19, 2005.

FOR FURTHER INFORMATION CONTACT: Stephen Duall, Attorney Advisor, Satellite Division, International Bureau, at (202) 418-1103, or by e-mail at Stephen.Duall@fcc.gov.

SUPPLEMENTARY INFORMATION: Pursuant to the Paperwork Reduction Act of 1995, Public Law 104-13, the Federal Communications Commission received Office of Management and Budget (OMB) approval for the collection of orbital debris mitigation plans under 47 CFR 25.114(d)(14) of the Commission's rules. Mitigation of Orbital Debris, IB Docket No. 02-54, OMB Control Number 3060-1013. As a result, any satellite system operator requesting FCC space station authorization, or an entity requesting a Commission ruling for access to a non-U.S.-licensed space station under the Commission's satellite market access procedures, must submit an orbital debris mitigation plan to the Commission regarding spacecraft design and operation in connection with its request. Because of the scope of this newly effective rule, the Commission eliminated redundant existing rules that require the submission of orbital debris plans on a service-specific basis. Mitigation of Orbital Debris, IB Docket No. 02-54, 69 FR 54581 (September 9, 2004). By this document, we announce the revision or removal of 47 CFR 25.143(b)(1), 25.145(c)(3), 25.146(i)(4), and 25.217(d).

Ordering Clauses

Part 25 of the Commission's rules is amended as set forth below.

List of Subjects in 47 CFR Part 25

Reporting and recordkeeping requirements, Satellites.

Federal Communications Commission.
Marlene H. Dortch,
Secretary.

Rule Changes

For the reasons discussed in the preamble, the Federal Communications Commission amends 47 CFR part 25 as follows:

PART 25—SATELLITE COMMUNICATIONS

1. The authority citation for part 25 continues to read as follows:

Authority: 47 U.S.C. 701-744. Interprets or applies secs. 4, 301, 302, 303, 307, 309 and 332 of the Communications Act, as amended, 47 U.S.C. 154, 301, 302, 303, 307, 309 and 332, unless otherwise noted.

2. Revise § 25.143(b)(1) to read as follows:

§ 25.143 Licensing provisions for the 1.6/2.4 GHz mobile-satellite service and 2 GHz mobile-satellite service.

* * * * *

(b) Qualification Requirements—(1) General Requirements. Each application for a space station system authorization in the 1.6/2.4 GHz Mobile-Satellite Service or 2 GHz Mobile-Satellite Service shall describe in detail the proposed satellite system, setting forth all pertinent technical and operational aspects of the system, and the technical and legal qualifications of the applicant. In particular, each application shall include the information specified in § 25.114. Non-U.S. licensed systems shall comply with the provisions of § 25.137.

* * * * *

§ 25.145 [Amended]

3. Remove and reserve § 25.145(c)(3).

§ 25.146 [Amended]

4. Remove and reserve § 25.146(i)(4).

§ 25.217 [Amended]

5. Remove and reserve § 25.217(d).

[FR Doc. 05-20445 Filed 10-11-05; 8:45 am]

BILLING CODE 6712-01-P